DEPARTMENT OF ENERGY

Federal Energy Regulatory Commission

[Docket No. AD09-8-000]

Transmission Planning Processes Under Order No. 890; Notice of Technical Conferences

June 30, 2009.

Take notice that Commission staff will convene technical conferences on the following dates in the following cities to examine the planning processes that are being conducted pursuant to Order No. 890.¹ Staff expects all transmission providers to participate in the technical conference for their particular region, although all interested persons, including transmission providers in other regions, regional representatives, transmission customers, developers of merchant transmission and distributed generation, and other resource developers are also invited to participate in each conference.

¹ Preventing Undue Discrimination and Preference in Transmission Service, Order No. 890, FERC Stats. & Regs. ¶ 31,241, order on reh'g, Order No. 890-A, FERC Stats. & Regs. ¶ 31,261 (2007), order on reh'g, Order No. 890-B, 123 FERC ¶ 61,299, (2008) order on reh'g, Order No. 890-C, 126 FERC ¶ 61,228 (2009).

In Order No. 890, the Commission directed all transmission providers to develop a transmission planning process that satisfies nine principles and to clearly describe that process in a new attachment to their open access transmission tariffs.² On December 7, 2007, pursuant to Order No. 890, most public utility transmission providers and several non-public utility transmission owners submitted their proposed transmission planning processes.³ The Commission subsequently addressed these filings in a series of orders that were issued throughout 2008. Generally, the Commission accepted each of the transmission planning processes to be effective December 7, 2007, subject to further compliance filings required to meet the nine planning principles (Initial Planning Orders). The Commission also noted that its staff would periodically monitor the implementation of these processes, and it stated its intent to convene regional technical conferences in 2009 to assess them.

² Order No. 890, FERC Stats. & Regs. ¶ 31,241 at P 418-602.

³ A small number of transmission providers were granted extensions.

Recently, the Commission issued a series of orders addressing the further transmission planning process compliance filings (Compliance Filing Orders). In each of the Compliance Filing Orders, the Commission emphasized that it remains interested in the development of transmission planning processes and will continue to examine the adequacy of the processes accepted to date. The Commission reiterated the encouragement made in prior orders for further refinements and improvements to the planning processes as transmission providers, their customers, and other stakeholders gain more experience through actual implementation of the processes. The Commission also re-stated that, as part of its ongoing evaluation of the implementation of the planning processes, it intended to convene regional technical conferences this year to determine if further refinements to these processes are necessary.

The conferences scheduled in this notice are intended to meet the Commission's commitment made in the Initial Planning Orders and Compliance Filing Orders that its staff would conduct an assessment of the Order No. 890 transmission planning processes. Consistent with these orders, the focus of the 2009 regional technical conferences will be: (1) To determine the progress and benefits realized by each transmission provider's transmission planning process, obtain customer and other stakeholder input, and discuss any areas that may need improvement; (2) to examine whether existing transmission planning processes adequately consider needs and solutions on a regional or interconnection-wide basis to ensure adequate and reliable supplies at just and reasonable rates; and (3) to explore whether existing processes are sufficient to meet emerging challenges to the transmission system, such as the development of interregional transmission facilities, the integration of large amounts of location-constrained generation, and the interconnection of distributed energy resources.

⁴ Staff also requests that a representative of WECC's Transmission Expansion Planning Policy Committee attend this technical conference.

Date | Location | Transmission provider participants
September 3, 2009 | Phoenix Airport Marriott, 1101 North 44th Street, Phoenix, AZ 85008 | Entities located within the ColumbiaGrid, Northern Tier Transmission Group, WestConnect, and CAISO footprints, and other entities in the WECC region that are not a part of any of these subregional groups.⁴
|  | Those wishing to participate as a panelist and provide feedback on the planning issues described above should submit a request form by close of business on August 13, 2009, located at: https://www.ferc.gov/whatsnew/registration/trans0903speakerform.asp.
September 10, 2009 | Sheraton Gateway Hotel Atlanta Airport, 1900 Sullivan Road, Atlanta, GA 30337 | Entities located in the states represented in the Southeastern Association of Regulatory Utility Commissioners and entities located in the Southwest Power Pool footprint.
|  | Those wishing to participate as a panelist and provide feedback on the planning issues described above should submit a request form by close of business on August 20, 2009 located at: https://www.ferc.gov/whatsnew/registration/trans0910speakerform.asp
September 21, 2009 | Marriott Philadelphia Airport, One Arrivals Road, Philadelphia, PA 19153 | Entities located within the Midwest ISO, PJM, New York ISO, and ISO New England footprints, MAPP/MAPP Participants, and adjacent areas.
|  | Those wishing to participate as a panelist and provide feedback on the planning issues described above should submit a request form by close of business on August 31, 2009, located at: https://www.ferc.gov/whats-new/registration/trans 09 21 speaker form.asp.

A further notice with a detailed agenda for each conference will be issued in advance of the conferences. In the event a transmission provider is uncertain as to which technical conference is the appropriate forum for discussion of its planning process, such transmission providers should contact Commission staff in advance to discuss the matter. Lastly, a comment date will be set at a later date allowing for the filing of post-conference comments.

For further information about these conferences, please contact:

Zeny Magos (Technical Information), Office of Energy Markets and Reliability, Federal Energy Regulatory Commission, 888 First Street, NE., Washington, DC 20426, (202) 502-8244, Zeny.Magos@ferc.gov.

John Cohen (Legal Information), Office of the General Counsel—Energy Markets, Federal Energy Regulatory Commission, 888 First Street, NE., Washington, DC 20426, (202) 502-8705, John.Cohen@ferc.gov.

Kimberly D. Bose,
Secretary.

[FR Doc. E9-16170 Filed 7-8-09; 8:45 am]

BILLING CODE 6717-01-P